DEPARTMENT OF COMMERCE

Foreign-Trade Zones Board

[S-151-2017]

Approval of Subzone Status; Lockheed Martin Corporation, Space Systems Company; Littleton, Colorado

On September 25, 2017, the Executive Secretary of the Foreign-Trade Zones (FTZ) Board docketed an application submitted by the City and County of Denver, Colorado, grantee of FTZ 123, requesting subzone status subject to the existing activation limit of FTZ 123, on behalf of Lockheed Martin Corporation, Space Systems Company, in Littleton, Colorado.

The application was processed in accordance with the FTZ Act and Regulations, including notice in the Federal Register inviting public comment (82 FR 45262-45263, September 28, 2017). The FTZ staff examiner reviewed the application and determined that it meets the criteria for approval. Pursuant to the authority delegated to the FTZ Board Executive Secretary (15 CFR 400.36(f)), the application to establish Subzone 123G was approved on November 8, 2017, subject to the FTZ Act and the Board's regulations, including Section 400.13, and further subject to FTZ 123's 858-acre activation limit.

Dated: November 8, 2017.
Andrew McGilvray,
Executive Secretary.

[FR Doc. 2017-24647 Filed 11-14-17; 8:45 am]

BILLING CODE 3510-DS-P